DEPARTMENT OF THE INTERIOR

Minerals Management Service

Notice of Availability of the Record of Decision for Outer Continental Shelf (OCS), Central Gulf of Mexico (GOM), Oil and Gas Lease Sale 205

AGENCY: Minerals Management Service, Interior.

ACTION: Notice of Availability of the Record of Decision.

SUMMARY: The Minerals Management Service (MMS) has issued a Record of Decision for OCS Central GOM Lease Sale 205 (October 2007). As part of the decision process, MMS published in April 2007 a final environmental impact statement (EIS) on the 2007-2012 Western and Central GOM oil and gas leasing proposals, including Sale 205. In preparing this decision, MMS has considered alternatives to the proposed actions, the impacts of Sale 205 as presented in the EIS, and all comments received throughout the EIS-process.

AVAILABILITY: To obtain a copy of the Record of Decision and Final EIS, you may contact the Minerals Management Service, Gulf of Mexico OCS Region, Public Information Office (MS 5034), 1201 Elmwood Park Boulevard, Room 114, New Orleans, Louisiana 70123-2394 (1-800-200-GULF). An electronic copy of the Record of Decision and Final EIS is available at the MMS's Internet Web site at http://www.gomr.mms.gov/homepg/regulate/environ/nepa/nepaprocess.html.

FOR FURTHER INFORMATION CONTACT: Mr. Dennis Chew, Minerals Management Service, Gulf of Mexico OCS Region, 1201 Elmwood Park Boulevard, New Orleans, Louisiana 70123-2394, (504) 736-2793.

Dated: August 24, 2007.
Chris C. Oynes,
Associate Director for, Offshore Minerals Management.

[FR Doc. E7-17286 Filed 8-30-07; 8:45 am]

BILLING CODE 4310-MR-P